DEPARTMENT OF ENERGY

Federal Energy Regulatory Commission

[Docket No. RM01-5-000]

Electronic Tariff Filings; Notice of Technical Conference Regarding Electronic Tariff Filing

March 10, 2009.

Take notice that on April 28, 2009, from 9 a.m. to 12 noon, a technical conference will be held to discuss the implementation of electronic tariff filing. In Order No. 714,¹ the Commission adopted regulations requiring that, as of April 1, 2010, tariff and tariff related filings must be made electronically. The first technical conference was held on December 3, 2008.

¹ Electronic Tariff Filings, Order No. 714, 73 FR 57,515 (Oct. 3, 2008), 124 FERC ¶ 61,270, FERC Stats. & Regs [Regulations Preambles] ¶ 31,276 (2008) (Sept. 19, 2008).

This conference will cover: the data fields and formatting to be included in the Table of Contents on the Commission's public viewer; issues that have arisen with respect to the testing site, including the need for dates or versioning in the comma separated value files and the error codes and descriptions; and a discussion of the means by which companies may, if they choose, include pending compliance tariff provisions in their baseline filings. Time permitting, participants also will be free to ask questions about other issues related to electronic tariff filing.

Background material on the standards and requirements can be found on the Commission's Web site (http://www.ferc.gov; click on eTariff under the Documents and Filings Heading).

The technical conference is open to the public. The conference will be held at the Federal Energy Regulatory Commission, 888 First Street, NE., Washington, DC 20426. In addition, the conference will be accessible via telephone. Staff anticipates posting any documents that may be referenced during the conference on the eTariff Web site so that they will be accessible to those using the telephone.

The telephone number for the conference will be posted on http://www.ferc.gov/docs-filing/etariff.asp and an RSS alert of the posting will be issued. No preregistration is needed to access the conference by telephone.

For more information, contact Keith Pierce, Office of Energy Market Regulation at (202) 502-8525 or send an e-mail to ETariff@ferc.gov.

Kimberly D. Bose,
Secretary.

[FR Doc. E9-5683 Filed 3-16-09; 8:45 am]

BILLING CODE 6717-01-P